DEPARTMENT OF THE INTERIOR

National Park Service

[NPS-WASO-NAGPRA-17402; PPWOCRADN0-PCU00RP14.R50000]

Notice of Inventory Completion: California State University, Sacramento, Sacramento, CA

AGENCY: National Park Service, Interior.

ACTION: Notice.

SUMMARY: California State University, Sacramento has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to California State University, Sacramento. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to California State University, Sacramento at the address in this notice by March 9, 2015.

ADDRESSES: Orn Bodvarsson, Dean of the College of Social Sciences and Interdisciplinary Studies, CSUS, 6000 J Street, Sacramento, CA 95819-6109, telephone (916) 278-4864, email obbodvarsson@csus.edu.

SUPPLEMENTARY INFORMATION: Notice is here given in accordance with the Native American Graves Protection and Repatriation Act (NAGPRA), 25 U.S.C. 3003, of the completion of an inventory of human remains and associated funerary objects under the control of California State University, Sacramento. The human remains and associated funerary objects were removed from sites located within Sacramento, San Joaquin, and Yolo counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by California State University, Sacramento professional staff in consultation with representatives of Buena Vista Rancheria of Me-Wuk Indians of California; Cachil DeHe Band of Wintun Indians of the Colusa Indian Community of the Colusa Rancheria, California; California Valley Miwok Tribe, California; Ione Band of Miwok Indians of California; Santa Rosa Indian Community of the Santa Rosa Rancheria, California; Shingle Springs Band of Miwok Indians, Shingle Springs Rancheria (Verona Tract), California; Susanville Indian Rancheria, California; United Auburn Indian Community of the Auburn Rancheria of California; Wilton Rancheria, California; and Nashville-Eldorado Miwok, a non-Federally recognized Native American group. Chicken Ranch Rancheria of Me-Wuk Indians of California; Cortina Indian Rancheria of Wintun Indians of California; Jackson Rancheria of Me-Wuk Indians of California; Picayune Rancheria of Chukchansi Indians of California; Table Mountain Rancheria of California; Tuolumne Band of Me-Wuk Indians of the Tuolumne Rancheria of California; Tule River Indian Tribe of the Tule River Reservation, California; Wiyot Tribe, California (previously listed as the Table Bluff Reservation-Wiyot Tribe); Yocha Dehe Wintun Nation, California (previously listed as the Rumsey Indian Rancheria of Wintun Indians of California); and the Miwok Tribe of the El Dorado Rancheria, a non-Federally recognized Native American group, were also contacted by California State University, Sacramento.

History and Description of the Remains

Sometime during the 1920s and 1930s, human remains representing, at minimum, two individuals were removed from CA-SAC-006 (also known as Johnson Mound), located approximately 1.3 miles west of the Cosumnes River and 5.5 miles northeast of the intersection of the Mokelumne and Cosumnes Rivers in southern Sacramento County, CA. The human remains were in the possession of Anthony Zallio, a private collector, who posthumously donated his collection in 1951 to the Department of Anthropology at Sacramento State College, CA (now California State University, Sacramento). No known individuals were identified. The two associated funerary objects are one fish vertebra and one chert projectile point embedded in a human vertebra.

Archeological data suggests occupation occurred at the site as early as the Middle Horizon with historic occupation occurring until the Sutter Period. Ethnographic and historic data suggests that this site was once the tribelet center for the Consomne Plains Miwok. Historic records indicate that the site was attacked by the Spanish in 1820 with conflicts occurring with the Mexicans in 1826. Ethnohistoric records indicate that the Consomne eventually banded together in defense with other Plains Miwok groups, such as the Ylamne and Sisumne, who collectively led a series of uprisings against pioneer John Sutter in the 1840s. Eventually the Consomne abandoned the village site at CA-SAC-006 in 1844 to relocate to Sutter's New Helvetia (Sutter's Fort).

Sometime during the 1920s and 1930s, human remains representing at minimum, one individual were removed from CA-SAC-021 (also known as Hollister, Allister, or S-29), located immediately adjacent to Snodgrass Slough, approximately 1.3 miles southeast of the intersection of Snodgrass Slough and the Sacramento River, in southwestern Sacramento County, CA. The human remains were in possession of Anthony Zallio, a private collector, who posthumously donated his collection in 1951 to the Department of Anthropology at Sacramento State College, CA (now California State University, Sacramento). No known individuals were identified. No associated funerary objects were present.

The site location places CA-SAC-021 in the aboriginal territory of the Plains Miwok. Archeological evidence suggests occupation at the site occurred during the Middle Horizon through Phase 1 of the Late Horizon.

Sometime during the 1920s and 1930s, human remains representing, at minimum, four individuals were removed from CA-SAC-056 (also known as Mosher, Mosler, Hathaway No. 1, and S-56), located on the east bank of the Sacramento River near Stone Lake, approximately thirteen miles south of the confluence of the American and Sacramento Rivers, in southwest Sacramento County, CA. The human remains were in the possession of Anthony Zallio, a private collector, who posthumously donated his collection in 1951 to the Department of Anthropology at Sacramento State College, CA (now California State University, Sacramento). No known individuals were identified. No associated funerary objects are present.

Archeological evidence suggests occupation at the village occurred as early as Phase 1 of the Late Horizon. Archeological and ethnographic records indicate that the site may be Walak, a tribelet center for the Gualacomne Plains Miwok. The site was occupied historically between the Mission Period and early Sutter Period from 1769-1845. Mission records indicate that 67 individuals were baptized from this site, and historical records note Walak as the first Native American village visited by pioneer John Sutter.

Sometime during the 1920s and 1930s, human remains representing, at minimum, four individuals were removed from CA-SAC-066 (also known as Morse or Mores Mound) located on the north bank of the Mokelumne River, approximately 1.5 miles west of Mokelumne City in southwest Sacramento County, CA. The human remains were in the possession of Anthony Zallio, a private collector, who posthumously donated his collection in 1951 to the Department of Anthropology at Sacramento State College, CA (now California State University, Sacramento). No known individuals were identified. No associated funerary objects are present.

Archeological data suggest occupation at the site occurred during Phase 1 of the Middle to Late Horizon. CA-SAC-066 is located within the aboriginal territory of the Plains Miwok.

Sometime during the 1920s and 1930s, human remains representing, at minimum, 16 individuals were removed from either CA-SAC-072 or CA-SAC-073 (also known as Herzog, Van Lobensels, and Vorden), located on the west bank of Snodgrass Slough in southwest Sacramento County, California. The human remains were in the possession of Anthony Zallio, a private collector, who posthumously donated his collection in 1951 to the Department of Anthropology at Sacramento State College, California (now California State University, Sacramento). No known individuals were identified. The four associated funerary objects include three obsidian projectile points and one basalt projectile point all embedded in human bone.

Archeological data suggests occupation occurring at CA-SAC-072 during Phase 2 of the Late Horizon, and occupation at CA-SAC-73 occurring sometime during the Middle Horizon. CA-SAC-072 and CA-SAC-73 are within the aboriginal territory of the Plains Miwok.

Sometime during the 1920s and 1930s, human remains representing, at minimum, one individual were removed from CA-SAC-075 (also known as Locke Mound #1, Locke Mound #2, S-76, CA-SAC-047, CA-SAC-076), located a half mile from the east bank of the Sacramento River approximately one mile north of Walnut Grove in southwestern Sacramento County, CA. The human remains were in the possession of Anthony Zallio, a private collector, who posthumously donated his collection in 1951 to the Department of Anthropology at Sacramento State College, CA (now California State University, Sacramento). No known individuals were identified. No associated funerary objects are present.

Ethnohistoric accounts indicate that the site was occupied by the Junizumne Plains Miwok. The Junizumne resisted baptism during the Mission period, and were attacked in 1813 and again in 1830 for harboring fugitive neophytes. Historic occupation at the site lasted until at least the Mission period when the malaria epidemic took hold in the region. Archeological data indicating the earliest occupation at the site is currently unavailable.

Sometime during the 1920s and 1930s, human remains representing, at minimum, 12 individuals were removed from CA-SAC-085 (also known as Nicolaus Site #2 or Nicholas), located on private property one mile south of the confluence of Morrison Creek and the Sacramento River in west-central Sacramento County, CA. The human remains were in the possession of Anthony Zallio, a private collector, who posthumously donated his collection in 1951 to the Department of Anthropology at Sacramento State College, CA (now California State University, Sacramento). The three associated funerary objects include one lot of Olivella shell beads, one stone ball, and one stone mortar fragment.

CA-SAC-085 may have been a suburb tribelet of a Hulpumne Plains Miwok village site located nearby at CA-SAC-086. Archeological records indicate occupation occurred during Phase 1 of the Late Horizon until the Mission Period from 1769 to 1839. It is believed that the site may have been abandoned during the 1833 malaria epidemic, with resettlement occurring by the Gualacomne Plains Miwok around the center of Walak (CA-SAC-056).

Sometime during the 1920s and 1930s, human remains representing, at minimum, six individuals were removed from CA-SAC-109 (also known as Drescher, C-109), located 3.5 miles southeast of Elk Grove in central Sacramento County, CA. CA-SAC-109 is frequently confused with C-117, Woodward, CA-SAC-117, and CA-SAC-200. The human remains were in the possession of Anthony Zallio, a private collector, who posthumously donated his collection in 1951 to the Department of Anthropology at Sacramento State College, CA (now California State University, Sacramento). No known individuals were identified. No associated funerary objects are present.

Archeological evidence indicates that occupation occurred at the site from the Middle to the Late Horizon. The site location places CA-SAC-109 within the aboriginal territory of the Plains Miwok Indians.

Sometime during the 1920s and 1930s, human remains representing, at minimum, two individuals were removed from CA-SAC-113 (also known as Calhoun #1, Calquehoun, or C-113), located on private property on the west bank of the Cosumnes River, east of Elk Grove in Sacramento County, CA. The human remains were in the possession of Anthony Zallio, a private collector, who posthumously donated his collection in 1951 to the Department of Anthropology at Sacramento State College, CA (now California State University, Sacramento). No known individuals were identified. No associated funerary objects are present.

This site may represent Sukididi, a subsidiary settlement for the Shalachmushumne Plains Miwok. It is believed that the village was abandoned after the 1833 malaria epidemic. A known archeological historic component is not present at the site, and its association with Sukididi has not been verified. Archeological data from the site indicate that it was occupied during Phase 2 of the Late Horizon.

Sometime during the 1920s and 1930s, human remains representing, at minimum, one individual were removed from CA-SAC-120 (also known as Goethe Mound #1 and #2), located on the east Bank of Deer Creek in northwest Elk Grove in central Sacramento County, CA. The human remains were in the possession of Anthony Zallio, a private collector, who posthumously donated his collection in 1951 to the Department of Anthropology at Sacramento State College, CA (now California State University, Sacramento). No known individuals were identified. No associated funerary objects are present.

Limited archeological and ethnohistorical data is available for CA-SAC-120, but it is believed to represent a small Plains Miwok Village known as Shalachmushumne. Archeological evidence suggests occupation at the site occurred during the Late Horizon. A census produced by Gatten recorded a population of fifty individuals at the village site in 1846. Historical documents suggest that the Shalachmushumne resisted missionization, and the survivors of the 1833 malaria epidemic may have become incorporated into the Amuchamne Plains Miwok in 1847.

In 1937, human remains representing, at minimum, one individual were removed from CA-SAC-122 (also known as Eichenburger or Hikinburger), located on the west bank of the Cosumnes River, approximately 9.5 miles-northwest of Elk Grove, in central Sacramento County, CA. The human remains were in possession of Anthony Zallio, a private collector, who posthumously donated his collection in 1951 to Sacramento State College (now California State University, Sacramento). No known individuals were identified. No associated funerary objects are present.

Archeological evidence indicates occupation occurred as early as Phase 1 of the Middle to Late Horizon. The site location places CA-SAC-122 within the aboriginal territory of the Plains Miwok.

Sometime during the 1920s and 1930s, human remains representing, at minimum, one individual were removed from CA-SAC-126 (also known as Boothe Mound), located on private property on the east bank of Deer Creek, southwest of Sloughhouse in central Sacramento County, CA. The human remains were in the possession of Anthony Zallio, a private collector, who posthumously donated his collection in 1951 to the Department of Anthropology at Sacramento State College, CA (now California State University, Sacramento). No known individuals were identified. No associated funerary objects are present.

Archeological evidence indicates that occupation of the site occurred from the Late Middle Horizon with dispersal most likely occurring after the 1833 malaria epidemic. Archeological and ethnographic evidence indicates that CA-SAC-126 may have been the tribelet center of the Amuchamne Plains Miwok. The Amuchamne may have been the leading group of a series of cooperating tribelets that resisted missionization consisting of the Newachumne, Shalachmushumne, and Lopotsimne. Ethnohistoric records suggest the Shalachmushumne may have diffused into the Amuchamne in efforts to resist the Yumhui Nisenan migration into the area in 1847, which resulted from pioneer Jared Sheldon's increased reliance on Nisenan labor on his ranch along the Cosumnes River.

Sometime during the 1920s and 1930s, human remains representing, at minimum, five individuals were removed from CA-SJO-068 (also known as the Blossom Site), located approximately one mile south of Mokelumne River and three miles east of Walnut Grove, in northern San Joaquin County, CA. The human remains were in the possession of Anthony Zallio, a private collector, who posthumously donated his collection in 1951 to the Department of Anthropology at Sacramento State College, CA (now California State University, Sacramento). No known individuals were identified. No associated funerary objects are present.

The site location places CA-SJO-068 within the aboriginal territory of the Plains Miwok. Archeological data from the site suggest occupation occurred during the Early Horizon.

Sometime during the 1920s and 1930s, human remains representing, at minimum, three individuals were removed from CA-YOL-045 (also known as Indian Head or Holy Ghost), located on the west bank of the Sacramento River, approximately 8.75 miles due south of the confluence of the American and Sacramento Rivers, in southeast Yolo County, California. The human remains were in the possession of Anthony Zallio, a private collector, who posthumously donated his collection in 1951 to the Department of Anthropology at Sacramento State College, California (now California State University, Sacramento). No known individuals were identified. The twenty-four associated funerary objects include six lots of charred textiles, seven Haliotis shell ornaments, one quartz crystal, and ten lots of shell beads.

CA-YOL-045 is located within the aboriginal territory of the Plains Miwok. Archeological data indicates occupation occurred during Phase 1 of the Late Horizon.

Sometime during the 1920s and 1930s, human remains representing, at minimum, one individual were removed from CA-YOL-049 (also known as the Engwall Mound), located on the west bank of the Sacramento River, approximately 10.5 miles due south of the confluence of the American and Sacramento Rivers, in southeast Yolo County, CA. The human remains were in the possession of Anthony Zallio, a private collector, who posthumously donated his collection in 1951 to the Department of Anthropology at Sacramento State College, CA (now California State University, Sacramento). No known individuals were identified. No associated funerary objects are present.

CA-YOL-049 is likely associated with the Plains Miwok village of Nasune, and may have been a subsidiary settlement associated with the Hulpumne tribelet of the Plains Miwok. CA-YOL-049 was a protohistoric site likely abandoned after the 1833 malaria epidemic.

Sometime during the 1920s and 1930s, human remains representing, at minimum, six individual were removed from CA-YOL-053 (also known as the Frank King Mound), located on private property on the west bank of Elk Slough 2.5 miles southwest of Clarksburg in Yolo County, CA. The human remains were in the possession of Anthony Zallio, a private collector, who posthumously donated the collection in 1951 to the Department of Anthropology at Sacramento State College, CA (now California State University, Sacramento). No known individuals were identified. No associated funerary objects are present.

Ethnographic evidence indicates that CA-YOL-053 may have been the tribelet center for the Ylamne Plains Miwok. Earliest known occupation occurred from Phase 2 of the Early Horizon and lasted until the Late Mission Period from 1769 to 1839. The site is believed to have been abandoned after the 1833 malaria epidemic with survivors shifting residence to neighboring tribelets and to Mission San Jose.

Archeological evidence indicates the lower Sacramento Valley and Delta regions were continuously occupied since at least the Early Horizon (5550-550 B.C.). Cultural changes indicated by artifact typologies and burial patterns, historical linguistic evidence, and biological evidence reveal that the populations in the region were not static, with both in situ cultural changes and migrations of outside populations into the area. Linguistic evidence suggests that ancestral-Penutian speaking groups related to modern day Miwok, Nisenan, and Patwin groups occupied the region during the Middle (550 B.C.-A.D. 1100) and Late (A.D. 1100-Historic) Horizons, with some admixing between these groups and Hokan-speaking groups that occupied the region at an earlier date. The genetic data suggests that the Penutians may have arrived later than suggested by the glottochronology.

Geographical data from ethnohistoric and ethnographic sources indicate that the site was most likely occupied by Plains Miwok-speaking groups at the beginning of the historic period, with Patwin-speakers occupying the valley west of the Sacramento River and Nisenan-speakers north of the American River. Ethnographic data and expert testimony from Tribes support the high level of interaction between groups in the lower Sacramento Valley and Delta regions that crosscut linguistic boundaries. Historic population movements resulted in an increased level of shifting among populations impacted by disease, violence, and Euro-American activities relating to Sutter's Fort and later gold-rush activities.

Due to the collecting methodology used by Zallio, the age of the human remains and associated funerary objects from the above archeological sites is currently unknown. However, Zallio excavated mound sites prior to leveling for agriculture and development, and it is believed that the most recent occupation of the sites was likely intact at the time. Based on this circumstantial evidence, it is more likely than not that Zallio collected human remains and cultural items from the youngest deposits. Such deposits date to the Historic Period and Late Horizon; the preponderance of evidence indicates that these temporal periods are most closely culturally affiliated with the Plains Miwok, with more distant ties to neighboring groups, such as the Nisenan, Patwin, and Yokuts.

Determinations Made by California State University, Sacramento

Officials of California State University, Sacramento have determined that:

• Pursuant to 25 U.S.C. 3001(9), the human remains described in this notice represent the physical remains of 66 individuals of Native American ancestry.

• Pursuant to 25 U.S.C. 3001(3)(A), the 33 objects described above are reasonably believed to have been placed with or near individual human remains at the time of death or later as part of the death rite or ceremony.

• Pursuant to 25 U.S.C. 3001(2), there is a relationship of shared group identity that can be reasonably traced between the Native American human remains and associated funerary objects and the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Rancheria, California; and two non-Federally recognized Native American groups: El Dorado Miwok Rancheria; and Nashville-Eldorado Miwok (if joined to the request of one or more of the foregoing Indian tribes).

Additional Requestors and Disposition

Lineal descendants or representatives of any Indian tribe or Native Hawaiian organization not identified in this notice that wish to request transfer of control of these human remains should submit a written request with information in support of the request to Orn Bodvarsson, Dean of the College of Social Sciences and Interdisciplinary Studies, CSUS, 6000 J Street, Sacramento, CA 95819-6109, telephone (916) 278-4864, email obbodvarsson@csus.edu, by March 9, 2015. After that date, if no additional requestors have come forward, transfer of control of the human remains and associated funerary objects to the Buena Vista Rancheria of Me-Wuk Indians of California; California Valley Miwok Tribe, California; Chicken Ranch Rancheria of Me-Wuk Indians of California; Ione Band of Miwok Indians of California; Jackson Rancheria of Me-Wuk Indians of California; Shingle Springs Band of Miwok Indians, Shingle Springs Rancheria (Verona Tract), California; Tuolumne Band of Me-Wuk Indians of the Tuolumne Rancheria of California; United Auburn Indian Community of the Auburn Rancheria of California; Wilton Rancheria, California and two non-Federally recognized Native American groups: El Dorado Miwok Rancheria; and Nashville-Eldorado Miwok (if joined to the request of one or more of the foregoing Indian tribes) may proceed.

California State University, Sacramento is responsible for notifying Buena Vista Rancheria of Me-Wuk Indians of California; Cachil DeHe Band of Wintun Indians of the Colusa Indian Community of the Colusa Rancheria, California; California Valley Miwok Tribe, California; Chicken Ranch Rancheria of Me-Wuk Indians of California; Cortina Indian Rancheria of Wintun Indians of California; Ione Band of Miwok Indians of California; Jackson Rancheria of Me-Wuk Indians of California; Picayune Rancheria of Chukchansi Indians of California; Santa Rosa Indian Community of the Santa Rosa Rancheria, California; Shingle Springs Band of Miwok Indians, Shingle Springs Rancheria (Verona Tract), California; Susanville Indian Rancheria, California; Table Mountain Rancheria of California; Tule River Indian Tribe of the Tule River Reservation, California; Tuolumne Band of Me-Wuk Indians of the Tuolumne Rancheria of California; United Auburn Indian Community of the Auburn Rancheria of California; Wilton Rancheria, California; Wiyot Tribe, California (previously listed as the Table Bluff Reservation-Wiyot Tribe); and Yocha Dehe Wintun Nation, California (previously listed as the Rumsey Indian Rancheria of Wintun Indians of California) that this notice has been published. California State University, Sacramento will also notify El Dorado Miwok Rancheria; and Nashville-Eldorado Miwok, two non-Federally recognized Native American groups, that this notice has been published.

Dated: December 29, 2014.
Melanie O'Brien,
Acting Manager, National NAGPRA Program.

[FR Doc. 2015-02259 Filed 2-5-15; 8:45 am]

BILLING CODE 4312-50-P